DEPARTMENT OF TRANSPORTATION

Federal Aviation Administration

Public Notice for Waiver of Aeronautical Land-Use Assurance: Chandler Field, Alexandria, MN

AGENCY: Federal Aviation Administration, DOT.

ACTION: Notice of intent of waiver with respect to land.

SUMMARY: The Federal Aviation Administration (FAA) is considering a proposal to change a portion of the airport from aeronautical use to non-aeronautical use and to authorize the disposal of the airport property. The proposal consists of a 1.61-acre portion of Parcel 5 located east of Minnesota Trunk Highways 29 and 27. Parcel 5 was acquired in 1980 without Federal participation. There are no impacts to the airport by allowing the airport to dispose of the property. The land is to be used for right-of-way for relocated 34th Avenue. The intersection of Minnesota Trunk Highways 29 and 27 was relocated southward years ago to provide additional clearance to the runway end. The relocation of the 34th Avenue intersection increases traffic safety. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before October 25, 2004.

FOR FURTHER INFORMATION CONTACT: Robert Huber, Assistant Manager, Airports District Office, 6020 28th Avenue South, Minneapolis, MN 55450. Telephone Number 612-713-4357/FAX Number 612-713-4364. Documents reflecting this FAA action may be reviewed at this same location.

SUPPLEMENTARY INFORMATION: Following is a legal description of the property located in Alexandria, Douglas County, Minnesota, and described as follows: A 100.00 foot wide tract of land which is a part of the Northwest Quarter of Section 31, Township 128 North, Range 37 West, Douglas County, Minnesota, being 50.00 feet on each side of the following described line: Commencing at the northwest corner of said Section 31; thence North 89 degrees 28 minutes 21 seconds East, assumed bearing, along the north line of said Northwest Quarter of Section 31 a distance of 692.12 feet; thence South 00 degrees 31 minutes 39 seconds East 165.00 feet to a point on the south line of the north 165 feet of said Northwest Quarter and the point of beginning of the line to be described; thence southwesterly along a nontangential curve concave to the southeast, radius 250.00 feet, central angle 20 degrees 27 minutes 07 seconds, a distance of 89.97 feet and the chord of said curve bears South 17 degrees 19 minutes 17 seconds West 89.48 feet; thence South 07 degrees 00 minutes 44 seconds West along tangent 75.06 feet; thence southwesterly along a tangential curve concave to the northwest, radius 300.00 feet. Central angle 102 degrees 04 minutes 34 seconds, a distance of 534.47 feet more or less to the easterly right-of-way line of Trunk Highway Number 27 and 29 and there terminating. The sidelines of said tract to be prolonged or shortened to begin on the south line of the north 165 feet of said Northwest Quarter and to terminate on the said easterly right-of-way line of Trunk Highway Numbers 27 and 29. Containing 1.61 acres more or less. Subject to existing easements, reservations and restrictions of record.

Issued in Minneapolis, Minnesota, on September 15, 2004.
Nancy M. Nistler,
Manager, Minneapolis Airports District Office, FAA, Great Lakes Region.

[FR Doc. 04-21531 Filed 9-23-04; 8:45 am]

BILLING CODE 4910-13-M